NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 17, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001,

E-mail: records.mgt@nara.gov,

FAX: (301) 837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: (301) 837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food Safety and Inspection Service (N1-462-03-02, 7 items, 7 temporary items). Records relating to applications submitted by meat and poultry manufacturers for approval of labels and food additives. Included are such records as applications, sketches of labels, and electronic copies of documents created using electronic mail and word processing.

2. Department of Defense, Defense Information Systems Agency (N1-371-03-1, 4 items, 4 temporary items). Records relating to the Defense Department's Public Key Infrastructure (PKI) Certification Program consisting of completed forms documenting subscriptions to the Department of Defense Public Key Infrastructure. Included are original paper forms, scanned copies, and electronic copies of documents created using electronic mail and word processing.

3. Department of Health and Human Services, Centers for Disease Control and Prevention (N1-442-01-1, 25 items, 25 temporary items). Records of radiation safety, environmental protection, and occupational health programs. Records relate to such matters as licensing, sampling, testing and monitoring activities, training, and assessments and audits. Also included are electronic copies of records created using electronic mail and word processing.

4. Department of Homeland Security, Transportation Security Administration (N1-560-03-10, 21 items, 15 temporary items). Reports, statistics, reading files, planning records, training facility records, trainee files, reference files, and electronic copies of records created using electronic mail and word processing. Records are accumulated primarily by the agency's Office of Training and Quality Performance. Proposed for permanent retention are recordkeeping copies of such records as master files relating to specific training programs, training policy memorandums, photographs, sound recordings, and video recordings.

5. Department of Homeland Security, Transportation Security Administration (N1-560-03-12, 5 items, 5 temporary items). Correspondence files, reports, and reference files accumulated by the Office of Information Technology. Also included are electronic copies of records created using electronic mail and word processing.

6. Department of Homeland Security, Transportation Security Administration (N1-560-03-13, 26 items, 25 temporary items). Records relating to financial management. Included are such records as general correspondence, reports, tax exempt documents, trip reports, quarterly and monthly financial statements, copies of vouchers, transaction statements, and accounts receivable documents. Also included are electronic copies of records created using electronic mail and word processing. Proposed for permanent retention are recordkeeping copies of the agency's annual financial report.

7. Department of Homeland Security, Transportation Security Administration (N1-560-03-14, 17 items, 16 temporary items). Records relating to budget development and execution. Included are such records as correspondence, annual reports, planning documents, budgeting work plans, preliminary estimates and justifications, and fund requests. Also included are electronic copies of records created using electronic mail and word processing. Proposed for permanent retention are recordkeeping copies of the agency's annual budget submission.

8. Department of the Treasury, Bureau of Engraving and Printing (N1-318-04-4, 3 items, 2 temporary items). Briefing books and correspondence files relating to budget development and submission. Also included are electronic copies of records created using electronic mail and word processing. Proposed for permanent retention are recordkeeping copies of the agency's consolidated budget submission.

9. Department of the Treasury, Bureau of the Public Debt (N1-53-04-1, 6 items, 6 temporary items). Records relating to savings bonds and marketable securities, including requests for payment, exchange applications, non-receipt claims, reinvestment applications, and reissue requests for accrual savings bonds.

10. Environmental Protection Agency, Office of Enforcement and Compliance Assurance (N1-412-03-2, 3 items, 3 temporary items). Software, electronic data, and system documentation relating to a system used to track compliance activities carried out under the Federal Insecticide, Fungicide, and Rodenticide Act and the Toxic Substances Control Act.

11. Environmental Protection Agency, Office of Prevention, Pesticides, and Toxic Substances (N1-412-03-14, 3 items, 1 temporary item). Software relating to an electronic system used as an index to unpublished studies on chemical testing and the adverse effects of chemicals on health and the environment. Electronic data and the related system documentation are proposed for permanent retention.

12. Environmental Protection Agency, Office of Research and Development (N1-412-03-18, 1 item, 1 temporary item). Electronic and paper logbooks accumulated in connection with routine activities, such as the maintenance of scientific instruments used in agency laboratories. Notebooks relating to research projects are excluded.

13. Federal Election Commission, Office of Administrative Review (N1-339-03-1, 4 items, 4 temporary items). Records relating to administrative fines imposed by the agency, including electronic copies of records created using electronic mail and word processing.

14. Tennessee Valley Authority, Fossil Power Group (N1-142-04-2, 4 items, 4 temporary items). Calibration records used to ensure quality assurance in the repair, modification, and testing of equipment. Included are electronic copies of records created using electronic mail and word processing.

Dated: December 22, 2003.
Michael J. Kurtz,
Assistant Archivist for Record Services—Washington, DC.

[FR Doc. 03-32254 Filed 12-31-03; 8:45 am]

BILLING CODE 7515-01-P